NATIONAL LABOR RELATIONS BOARD

Sunshine Act Meetings: November 2013

TIME AND DATES: All meetings are held at 2:00 p.m.

Monday, November 4; Tuesday, November 5; Wednesday, November 13; Thursday, November 14; Monday, November 18; Tuesday, November 19; Wednesday, November 20; Thursday, November 21; Monday, November 25; Tuesday, November 26.

PLACE: Board Agenda Room, No. 11820, 1099 14th St., NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition … of particular representation or unfair labor practice proceedings under section 8, 9, or 10 of the [National Labor Relations] Act, or any court proceedings collateral or ancillary thereto.” See also 5 U.S.C. 552b(c)(10).

CONTACT PERSON FOR MORE INFORMATION:

Dated: October 31, 2013.
William B. Cowen,
Solicitor.

[FR Doc. 2013-26408 Filed 10-31-13; 11:15 am]

BILLING CODE 7545-01-P